ENVIRONMENTAL PROTECTION AGENCY

[EPA-HQ-OPP-2014-0233; FRL-9925-06]

Environmental Protection Agency; Notice of Public Meeting

AGENCY: Environmental Protection Agency (EPA).

ACTION: Notice.

SUMMARY: EPA's Office of Pesticide Programs, the U.S. Fish and Wildlife Service (FWS), and the National Marine Fisheries Service (NMFS) (collectively, the Services), and the U.S. Department of Agriculture (USDA) are holding a 1-day workshop to provide an update on the status of interagency efforts to further develop interim scientific methods that were issued in November 2013 by EPA, the Services, and USDA in response to the National Academy of Sciences (NAS) report entitled, “Assessing Risks to Endangered and Threatened Species from Pesticides”. This workshop builds upon public meetings held in November and December 2013, and April and October 2014, and provides a forum for stakeholders to offer scientific and technical feedback on the ongoing efforts to develop draft Biological Evaluations (BEs) for three pilot chemicals (chlorpyrifos, diazinon, and malathion). This workshop provides an opportunity to continue the dialogue on the implementation of the enhanced stakeholder engagement process that was finalized in March 2013. The workshop is not designed, or intended, to be a decision-making forum; consensus will not be sought, or developed at the meeting. This meeting furthers the agencies' goal of developing a consultation process for assessing pesticide's impacts on listed species that is efficient, inclusive, and transparent.

DATES: The meeting will be held on April 15, 2015 from 8:30 a.m. to 5:30 p.m. The workshop will be available via webinar for those interested in attending the workshop remotely. A teleconference line will also be available. Requests to attend the workshop in person, or via webinar and teleconference must be received on or before April 7, 2015. Individuals wishing to make a presentation at the workshop should submit presentation materials by March 30, 2015.

To request accommodation of a disability, please contact the person listed under FOR FURTHER INFORMATION CONTACT, preferably at least 10 days prior to the meeting, to give EPA as much time as possible to process your request.

ADDRESSES: The meeting will be held at FWS Skyline Bldg. 7, 5275 Leesburg Pike, Bailey's Crossroads, VA 22041-3803, in the Rachel Carson Room. See Unit III for additional information.

Requests to attend the meeting, identified by docket identification (ID) number EPA-HQ-OPP-2014-0233, must be submitted to the person listed under FOR FURTHER INFORMATION CONTACT.

FOR FURTHER INFORMATION CONTACT: For general information contact: Catherine Eiden, Pesticide Re-evaluation Division (7508P), Office of Pesticide Programs, Environmental Protection Agency, 1200 Pennsylvania Ave. NW., Washington, DC 20460-0001; telephone number: (703) 305-7887; email address: eiden.catherine@epa.gov.

For meeting logistics and/or registration contact: Leona Laniawe, U.S. Fish and Wildlife Service Headquarters, Ecological Services, 5275 Leesburg Pike, Falls Church, VA 22041-3803; telephone: (703) 358-2640; fax (703) 358-1800; email address: leona_laniawe@fws.gov.

SUPPLEMENTARY INFORMATION:

I. General Information

A. Does this action apply to me?

You may be potentially affected by this action if you develop, manufacture, formulate, sell, and/or apply pesticide products, and if you are interested in the potential impacts of pesticide use on listed species. The following list of North American Industrial Classification System (NAICS) codes is not intended to be exhaustive, but rather provides a guide to help readers determine whether this document applies to them. Potentially affected entities may include:

• Crop Production (NAICS code 111)

• Animal Production (NAICS code 112)

• Food manufacturing code 311)

• Pesticide manufacturing (NAICS code 32532)

B. How can I get copies of this document and other related information?

The docket for this action, identified by docket identification (ID) number EPA-HQ-OPP-2014-0233, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

This workshop is an opportunity for stakeholders and agencies to continue their dialogue on the technical aspects of implementing the NAS recommendations in the context of ongoing interagency efforts to develop draft Biological Evaluations for the three pilot chemicals; this workshop builds upon public meetings held in November and December 2013, and April and October 2014, and implementation of the enhanced stakeholder engagement process that was finalized in March 2013. The workshop is not designed, or intended to be a decision-making forum; consensus will not be sought, or developed at the meeting.

Stakeholders are invited to hear presentations by the agencies on the status and development of Problem Formulations for each of the three pilot chemicals: Chlorpyrifos, malathion, and diazinon. The agencies will cover the following topics in their presentations: Description of the federal action and opportunities for refinement, USDA's geospatial data for mapping agricultural uses of pesticides, other sources of geospatial data for mapping non-agricultural uses of pesticides, species range data, risk hypotheses and approaches to weight-of-the-evidence analysis, and application of the interim scientific methods using examples for aquatic and terrestrial listed species.

The agencies' interim approach document entitled, “Interagency Approach for Implementation of the National Academy of Sciences Report”, dated November 13, 2013, and the presentation materials from the November 2013 stakeholder workshop are available at the following Web site: http://www.epa.gov/oppfead1/endanger/2013/nas.html.

Presentations by the agencies supporting this stakeholder workshop will be made available on the EPA Web site on April 1st (http://www.epa.gov/espp), and in the docket identified by EPA-HQ-OPP-2014-0233 prior to the workshop. Presentations supporting the previous stakeholder workshops held in April and October 2014 are also available in this docket.

Representatives from Federal agencies will join the dialogue to answer clarifying questions regarding the pesticide registration process and Endangered Species Act consultation process. The agencies see this workshop as an integral component of the stakeholder engagement process developed for pesticide consultations that contributes to the agencies' commitment to adapt and refine the interim approaches as we progress through initial consultations.

III. How can I request to participate in this meeting?

You may submit a request to participate in this meeting to the person listed under FOR FURTHER INFORMATION CONTACT. Do not submit any information in your request that is considered CBI. Requests to attend the meeting in person, or via webinar and teleconference, identified by docket ID number EPA-HQ-OPP-2014-0233, must be received on or before April 7, 2015.

Public parking is available for attendees; follow blue signs to the lot. There is a fee for all day parking.

Attendees will need to present identification at the Security check-in.

Webinar and teleconference information will be provided to participants requesting access via webinar and telephone.

Authority: 7 U.S.C. 136 et seq.

Dated: March 17, 2015.
Richard P. Keigwin, Jr.,
Director, Pesticide Re-evaluation Division, Office of Pesticide Programs.

[FR Doc. 2015-06931 Filed 3-25-15; 8:45 am]

BILLING CODE 6560-50-P